DEPARTMENT OF THE INTERIOR

National Park Service

Notice of Inventory Completion: Field Museum of Natural History, Chicago, IL

AGENCY: National Park Service, Interior.

ACTION: Notice.

Notice is here given in accordance with the Native American Graves Protection and Repatriation Act (NAGPRA), 25 U.S.C. 3003, of the completion of an inventory of human remains in the possession of the Field Museum of Natural History, Chicago, IL. The human remains were removed from Boundary County, ID.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Field Museum of Natural History professional staff in consultation with representatives of the Kootenai Tribe of Idaho and the Confederated Salish & Kootenai Tribes of the Flathead Reservation, Montana.

In 1897, human remains representing a minimum of two individuals were obtained in Bonner's Ferry, Boundary County, ID, by George A. Dorsey for the Field Museum of Natural History. The 1896-1897 Annual Report of the Director to the Board of Trustees describes a four-month trip that assistant curator of anthropology George A. Dorsey and museum photographer Edward Allen made “among the Indians of the far West,” that included a visit to the “Kootenay” tribe. The report states that “two complete skeletons, a male and a female, were also secured from the Kootenay near Bonner's Ferry.” No known individuals were identified. No associated funerary objects are present.

The human remains have been identified as Native American, based on the specific cultural and geographic attribution in Field Museum of Natural History records. The records identify the human remains as “Kootenay” from Bonner's Ferry, ID. “Kootenay” descendents in Idaho are represented by the present-day Kootenai Tribe of Idaho.

Officials of the Field Museum of Natural History have determined that, pursuant to 25 U.S.C. 3001 (9-10), the human remains described above represent the physical remains of two individuals of Native American ancestry. Officials of the Field Museum of Natural History also have determined that, pursuant to 25 U.S.C. 3001 (2), there is a relationship of shared group identity that can be reasonably traced between the Native American human remains and the Kootenai Tribe of Idaho.

Representatives of any other Indian tribe that believes itself to be culturally affiliated with the human remains should contact Helen Robbins, Repatriation Specialist, Field Museum of Natural History, 1400 South Lake Shore Drive, Chicago, IL 60605-2496, telephone (312) 665-7317, before October 14, 2004. Repatriation of the human remains to the Kootenai Tribe of Idaho may proceed after that date if no additional claimants come forward.

The Field Museum of Natural History is responsible for notifying the Kootenai Tribe of Idaho and the Confederated Salish and Kootenai Tribes of the Flathead Reservation, Montana that this notice has been published.

Dated: August 3, 2004.
Sherry Hutt,
Manager, National NAGPRA Program.

[FR Doc. 04-20653 Filed 9-13-04; 8:45 am]

BILLING CODE 4312-50-S